NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities (NEH) will hold thirteen meetings, by videoconference, of the Humanities Panel, a federal advisory committee, during February 2023. The purpose of the meetings is for panel review, discussion, evaluation, and recommendation of applications for financial assistance under the National Foundation on the Arts and the Humanities Act of 1965.

DATES: See SUPPLEMENTARY INFORMATION for meeting dates. The meetings will open at 8:30 a.m. and will adjourn by 5 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. 10), notice is hereby given of the following meetings:

1. Date: February 15, 2023

This video meeting will discuss applications on the topic of American Studies, for the Public Scholars grant program, submitted to the Division of Research Programs.

2. Date: February 15, 2023

This video meeting will discuss applications on the topic of Arts, for the Public Scholars grant program, submitted to the Division of Research Programs.

3. Date: February 15, 2023

This video meeting will discuss applications on the topic of Biography, for the Public Scholars grant program, submitted to the Division of Research Programs.

4. Date: February 15, 2023

This video meeting will discuss applications on the topics of Film, Media, and Communications, for the Public Scholars grant program, submitted to the Division of Research Programs.

5. Date: February 15, 2023

This video meeting will discuss applications on the topic of History, for the Public Scholars grant program, submitted to the Division of Research Programs.

6. Date: February 15, 2023

This video meeting will discuss applications on the topics of History and Religion, for the Public Scholars grant program, submitted to the Division of Research Programs.

7. Date: February 15, 2023

This video meeting will discuss applications on the topics of Literature and Language, for the Public Scholars grant program, submitted to the Division of Research Programs.

8. Date: February 15, 2023

This video meeting will discuss applications on the topics of Philosophy, Politics, and Law, for the Public Scholars grant program, submitted to the Division of Research Programs.

9. Date: February 15, 2023

This video meeting will discuss applications on the topics of Science, Technology, Medicine, and the Environment, for the Public Scholars grant program, submitted to the Division of Research Programs.

10. Date: February 15, 2023

This video meeting will discuss applications on the topic of Social Sciences, for the Public Scholars grant program, submitted to the Division of Research Programs.

11. Date: February 15, 2023

This video meeting—the first of two on this date—will discuss applications on the topic of U.S. History, for Public Scholars grant program, submitted to the Division of Research Programs.

12. Date: February 15, 2023

This video meeting—the second of two on this date—will discuss applications on the topic of U.S. History, for the Public Scholars grant program, submitted to the Division of Research Programs.

13. Date: February 16, 2023

This video meeting will discuss applications for the National Digital Newspaper Program, submitted to the Division of Preservation and Access.

Because these meetings will include review of personal and/or proprietary financial and commercial information given in confidence to the agency by grant applicants, the meetings will be closed to the public pursuant to sections 552b(c)(4) and 552b(c)(6) of Title 5, U.S.C., as amended. I have made this determination pursuant to the authority granted me by the Chair's Delegation of Authority to Close Advisory Committee Meetings dated April 15, 2016.

Dated: January 10, 2023.
Jessica Graves,
Legal Administrative Specialist, National Endowment for the Humanities.

[FR Doc. 2023-00637 Filed 1-13-23; 8:45 am]

BILLING CODE 7536-01-P